DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services as amended most recently at 68 FR 12929, March 18, 2003 is amended to: Replace the functional statement of the Division of the Center for Mental Health Services (CMHS), the Division of Prevention, Traumatic Stress and Special Programs. The changes are to update the significant growth of its existing program areas which has assumed several new initiatives and to strengthen and better manage the mission of SAMHSA. The changes are as follows:

Section M.20, Functions is amended as follows:

Under the heading, Division of Prevention, Traumatic Stress and Special Programs (MSC), delete the functional statement and substitute the following functional statement:

The Division of Prevention, Traumatic Stress and Special Programs (DPTSSP): (1) Serves as the focal point in planning for alcohol, drug abuse, and mental health services during national disasters; (2) cooperates with the Office of Emergency Response and the Federal Emergency Management Agency (FEMA) and other Federal agencies to coordinate disaster assistance, community response, and other mental health emergency services as a consequence of national disasters or mass criminal events, such as terrorism and school shootings; (3) serves as a focal point for refugee mental health programs, including liaison with other Federal agencies; (4) conducts program development activities and engages with the faith community, when appropriate, to promote effective programs and policies to special populations including women, minorities, youth in juvenile justice facilities, and elderly persons living in rural areas; and (5) administers youth violence and suicide prevention programs, trauma and terrorism/bio-terrorism initiatives, and programs that prevent mental and behavioral disorders and promote mental health and resilience across the life cycle.

Section M.40, Delegations of Authority. All delegations and redelegations of authority to officers and employees of SAMHSA which were in effect immediately prior to the effective date of this reorganization shall continue in them.

These organizational changes are effective June 20, 2003.

Dated: July 8, 2003.
Charles G. Curie,
Administrator.

[FR Doc. 03-19626 Filed 7-31-03; 8:45 am]

BILLING CODE 4160-01-M